DEPARTMENT OF JUSTICE

Notice of Lodging of Proposed Consent Decree Under The Clean Air Act; The Comprehensive Environmental Response, Compensation, and Liability Act; and The Emergency Planning and Community Right-To-Know Act

On September 30, 2021, the Department of Justice lodged a proposed Consent Decree with the United States District Court for the Western District of Louisiana in the lawsuit entitled United States et al. v. Firestone Polymers, LLC, Case No. 2:21-cv-03464.

The proposed Consent Decree resolves claims asserted in the Complaint filed in the action that Firestone Polymers, LLC (“Defendant”) violated the Clean Air Act (“CAA”), and other federal statutes, and related Louisiana state air pollution control laws applicable to the synthetic rubber production facility located in Sulphur, Calcasieu Parish near Lake Charles, Louisiana. The Complaint alleges that the CAA violations resulted in the emission of illegal pollutants, including nitrogen oxides, carbon monoxide, volatile organic compounds, particulate matter, and sulfur dioxide, and hazardous air pollutants. Other claims involve alleged violations of the Comprehensive Environmental Response, Compensation, and Liability Act, the Emergency Planning and Community Right‐to‐Know Act, and Louisiana state air pollution control requirements governed by the Louisiana Environmental Quality Act and implementing regulations. Under the proposed Consent Decree, Defendant has agreed to pay a civil penalty of $3.35 million, implement a State of Louisiana Beneficial Environmental Project valued at $654,125 and implement a mitigation project to resolve the governments' claims.

The publication of this notice opens a period for public comment on the Consent Decree. Comments should be addressed to the Assistant Attorney General, Environment and Natural Resources Division, and should refer to United States et al. v. Firestone Polymers, LLC, Case No. 2:21-cv-03464 and D.J. Ref. No. 90-5-2-1-11946. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $18.75 (25 cents per page reproduction cost) without the Consent Decree attachments or $29.50 with the attachments, payable to the United States Treasury.

Thomas Carroll,
Assistant Section Chief, Environmental Enforcement Section, Environment and Natural Resources Division.

[FR Doc. 2021-21910 Filed 10-6-21; 8:45 am]

BILLING CODE 4410-15-P